DEPARTMENT OF DEFENSE

Department of the Navy

Notice of Availability of Record of Decision for Outdoor Research, Development, Test and Evaluation Activities at Naval Surface Warfare Center, Dahlgren Division, Dahlgren, VA

AGENCY: Department of the Navy, DoD.

ACTION: Notice.

SUMMARY: The Department of the Navy (DoN), after carefully weighing the strategic operational and environmental consequences of the proposed action, announces its decision to expand the Naval Surface Warfare Center, Dahlgren Division's (NSWCDD) outdoor research, development, test and evaluation (RDT&E) activities within the Potomac River Test Range (PRTR) complex, the Explosives Experimental Area range complex, the Mission Area, and special-use airspace at Naval Support Facility Dahlgren. These activities include outdoor operations that require the use of ordnance (guns and explosives), electromagnetic energy, high energy lasers, chemical and biological simulants (non-toxic substances used to mimic dangerous agents), and PRTR use. The DoN has decided to implement the preferred alternative, Alternative 2, which will enable NSWCDD to meet current and future mission-related warfare and force-protection requirements by providing RDT&E of surface ship combat systems, ordnance, lasers and directed energy systems, force-level warfare, and homeland and force protection.

SUPPLEMENTARY INFORMATION: The complete text of the Record of Decision (ROD) is available on the project Web site at http://www.navsea.navy.mil/nswc/dahlgren/EIS/index.aspx, along with the Outdoor RDT&E Activities NSWCDD Final Environmental Impact Statement dated June 2013 and supporting documents. Single copies of the ROD are available upon request by contacting: Naval Surface Warfare Center, Dahlgren Division, Public Affairs Office, Attn: Stacia Courtney, Code C6, 6149 Welsh Road, Suite 203, Dahlgren, VA 22448-5130, telephone: 540-653-8154, email: DLGR_NSWC_EIS@NAVY.MIL.

Dated: October 18, 2013.
N.A. Hagerty-Ford,
Commander, Office of the Judge Advocate General, U.S. Navy, Federal Register Liaison Officer.

[FR Doc. 2013-25147 Filed 10-24-13; 8:45 am]

BILLING CODE 3810-FF-P